ENVIRONMENTAL PROTECTION AGENCY

[ER-FRL-9012-2]

Environmental Impact Statements; Notice of Availability

Responsible Agency: Office of Federal Activities, General Information (202) 564-7146 or http://www.epa.gov/compliance/nepa/.

Weekly Receipt of Environmental Impact Statements

Filed 11/11/2013 through 11/15/2013.

Pursuant to 40 CFR 1506.9.

NOTICE: Section 309(a) of the Clean Air Act requires that EPA make public its comments on EISs issued by other Federal agencies. EPA's comment letters on EISs are available at: http://www.epa.gov/compliance/nepa/eisdata.html.

SUPPLEMENTARY INFORMATION: EPA's weekly receipt of EISs filed during the week of 11/04/2013 through 11/08/2013 can be found in Wednesday, November 20th, Federal Register publication and on EPA's Web site at: http://www.epa.gov/compliance/nepa/eisdata.html.

EIS No. 20130338, Final EIS, USFS, OR, Summit Logan Valley Grazing Authorization Project, Review Period Ends: 12/30/2013, Contact: Randall J. Gould 541-820-3801.

EIS No. 20130339, Draft EIS, BLM, OR, Oregon Sub-Region Greater Sage-Grouse Draft Resource Management Plan Amendment, Comment Period Ends: 02/20/2014, Contact: Joan Suther 541-573-4445.

EIS No. 20130340, Draft EIS, USFS, AZ, Programmatic—Revision of the Coronado National Forest Land and Resource Management Plan, Comment Period Ends: 02/20/2014, Contact: Yolynda Begay 520-388-8370.

EIS No. 20130341, Final Supplement, BLM, NV, Ruby Pipeline Project, Review Period Ends: 12/23/2013, Contact: Mark Mackiewicz 435-636-3616.

EIS No. 20130342, Draft EIS, USA, CA, Modernization and Repair of Piers 2 and 3 at Military Ocean Terminal Concord, Comment Period Ends: 01/06/2014, Contact: Malcolm E. Charles 925-246-4023.

EIS No. 20130343, Draft Supplement, NPS, FL, Biscayne National Park Supplemental Draft General Management Plan, Comment Period Ends: 02/20/2014, Contact: Morgan Elmer 303-969-2317.

EIS No. 20130344, Draft Supplement, FHWA, NC, Monroe Connector/Bypass, Comment Period Ends: 01/06/2014, Contact: Jennifer Harris (NCDOT) 919-707-6025.

EIS No. 20130345, Final EIS, DOE, LA, Lake Charles Carbon Capture and Sequestration Project, Review Period Ends: 12/23/2013, Contact: Pieri Fayish 412-386-5428.

EIS No. 20130346, Draft EIS, USFS, CA, Blacksmith Forest Health Project, Comment Period Ends: 01/06/2014, Contact: Dana Walsh 530-333-5558.

EIS No. 20130347, Final Supplement, USFS, CA, Southern California National Forests Land Management Plan Amendment, Review Period Ends: 12/23/2013, Contact: Robert Hawkins 916-849-8037.

EIS No. 20130348, Draft EIS, BLM, WAPA, UT, TransWest Express Transmission Project, Comment Period Ends: 02/19/2014, Contact: Sharon Knowlton 307-775-6124.

The U.S. Department of the Interior's Bureau of Land Management and the U.S. Department of Energy's Western Area Power Administration are joint lead agencies for the above project.

Amended Notices

EIS No. 20130334, Draft EIS, BIA, MA, Mashpee Wampanoag Tribe Fee-to-Trust Acquisition and Casino Project, Comment Period Ends: 01/17/2014, Contact: Chester McGhee 615-564-6500. Revision to the FR Notice Published 11/20/2013; Extending the Comment Period from 12/30/2013 to 01/17/2014.

Dated: November 19, 2013.
Cliff Rader,
Director, NEPA Compliance Division, Office of Federal Activities.

[FR Doc. 2013-28149 Filed 11-21-13; 8:45 am]

BILLING CODE 6560-50-P